DEPARTMENT OF THE INTERIOR

National Park Service

General Management Plan, Draft Environmental Impact Statement, Coronado National Memorial, Arizona

AGENCY: National Park Service, Department of the Interior.

ACTION: Notice of Availability of a Draft Environmental Impact Statement/ General Management Plan, Coronado National Memorial.

SUMMARY: Pursuant to the National Environmental Policy Act of 1969, 42 U.S.C. 4332 (C) the National Park Service announces the availability of a Draft Environmental Impact Statement and General Management Plan (DEIS/GMP) for Coronado National Memorial, Arizona.

DATES: The DEIS/GMP will remain available for public review for 60 days following the date of this notice. No public meetings are scheduled at this time.

Comments: If you wish to comment you may submit your comments by any one of several methods. You may mail comments to Superintendent, Dale Thompson, Coronado National Memorial, 4101 East Montezuma Canyon Road, Hereford, AZ 85615. You may comment via the Internet to at http://planning.nps.gov/plans.cfm. Please submit Internet comments as an ASCII file avoiding the use of special characters and any form of encryption. Please also include “Attn: GMP Team” and your name and return address in your Internet message. If you do not receive a confirmation from the system that we have received your Internet message, you can contact Superintendent Dale Thompson directly at telephone (520) 366-5515 or Job Captain John Paige at telephone (303) 969-9721. Finally you may hand-deliver your comments to park headquarters, 4101 East Montezuma Canyon road, Hereford, Arizona. Comments should be received no later than 60 days from the publication of this Notice of Availability. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

ADDRESSES: Copies of the DEIS/GMP are available from the Superintendent, Dale Thompson, Coronado National Memorial, 4101 East Montezuma Road, Hereford, AZ 85615. Public reading copies of the DEIS/GMP will be available for review at the following locations:

Coronado National Memorial Visitor Center, Coronado National Memorial, 4101 East Montezuma Road, Hereford, AZ 85615, Telephone: (520) 366-5515.

Planning and Environmental Quality, Intermountain Support Office—Denver, National Park Service, 12795 West Alameda Parkway, P.O. Box 25287, Denver, CO 80225-0287, Telephone: (303) 969-2851 [or (303) 969-2377].

Office of Public Affairs, National Park Service, Department of the Interior, 18th and C Streets NW., Room 7012, Washington, DC 20240, Telephone: (202) 208-6843.

SUPPLEMENTARY INFORMATION: The DEIS/GMP analyzes a “no-action” alternative and four “action” alternatives:

• Alternative A (no-action) represents the continuation of existing conditions and management at the park.

• Alternative B (the NPS preferred alternative)—the visitor center would be rehabilitated, with an annex added for more office space and storage. New trails would be developed, and pullouts and waysides would be added to roads. Programs would help visitors understand the Coronado Expedition and its impact on the American Southwest. Grazing in the memorial would be ended.

• Alternative C—would focus on conserving cultural and natural resources. The visitor center's interior would be remodeled to make more space for interpretation. Grazing in the memorial would be ended.

• Alternative D—the memorial's international aspects would be emphasized. A structure would be built to commemorate the Coronado Expedition, and an educational center would be developed in the Montezuma ranch area. The visitor center would be expanded and rehabilitated. Grazing would continue in the Joe's Spring allotment, but not in the Montezuma allotment.

• Alternative E—A new visitor/educational center, to which visitors could drive on a paved two-lane road and enjoy a panoramic view of the San Pedro valley and the United States-Mexico border. The visitor center would be converted into administrative offices. Grazing would be eliminated from the Joe's Spring allotment.

The DEIS/GMP evaluates the environmental consequences of the proposed action and the other alternatives on natural resources (e.g., air quality, cave resources, soils; vegetation; wildlife; water quantity; and threatened and endangered species); cultural resources (e.g. archeological resources, ethnographic resources, historic structures, and cultural landscapes); the visitor experience (e.g. visitors' experience of park resources, and access to orientation and interpretive information); and socioeconomic resources (e.g. recreational use, grazing, and the local and regional economy).

FOR FURTHER INFORMATION CONTACT: Superintendent, Dale Thompson or Job Captain John Paige at the above addresses and telephone numbers.

Dated: June 20, 2003.
Karen P. Wade,
Director, Intermountain Region, National Park Service.

[FR Doc. 03-19961 Filed 8-5-03; 8:45 am]

BILLING CODE 4312-DP-P